DEPARTMENT OF ENERGY

Federal Energy Regulatory Commission

Combined Notice of Filings

Take notice that the Commission has received the following Natural Gas Pipeline Rate and Refund Report filings:

Filings Instituting Proceedings

Docket Numbers: RP18-454-000.

Applicants: Tennessee Gas Pipeline Company, L.L.C.

Description: § 4(d) Rate Filing: Clean Up Filing to remove expired & no longer NC/Neg Rate contracts to be effective 3/24/2018.

Filed Date: 2/21/18.

Accession Number: 20180221-5045.

Comments Due: 5 p.m. ET 3/5/18.

Docket Numbers: RP18-456-000.

Applicants: Gulf South Pipeline Company, LP.

Description: § 4(d) Rate Filing: Remove Expired Agmts from Tariff eff 2/21/2018 to be effective 2/21/2018.

Filed Date: 2/21/18.

Accession Number: 20180221-5059.

Comments Due: 5 p.m. ET 3/5/18.

Docket Numbers: RP18-457-000.

Applicants: Texas Eastern Transmission, LP.

Description: § 4(d) Rate Filing: Negotiated Rates—NJ Natural 910230 eff 04-01-2018 to be effective 4/1/2018.

Filed Date: 2/21/18.

Accession Number: 20180221-5103.

Comments Due: 5 p.m. ET 3/5/18.

Docket Numbers: CP18-91-000.

Applicants: Destin Pipeline Company, L.L.C.

Description: Joint Abbreviated Application for Certificate And Abandonment Authorization of Destin Pipeline Company, L.L.C., et al.

Filed Date: 2/22/18.

Accession Number: 20180222-5124.

Comments Due: 5 p.m. ET 3/15/18.

Docket Numbers: RP18-458-000.

Applicants: Texas Eastern Transmission, LP.

Description: § 4(d) Rate Filing: Negotiated Rates—NJR Energy Services k911427 eff 04-01-18 to be effective 4/1/2018.

Filed Date: 2/22/18.

Accession Number: 20180222-5009.

Comments Due: 5 p.m. ET 3/6/18.

Docket Numbers: RP18-459-000.

Applicants: Equitrans, L.P.

Description: § 4(d) Rate Filing: Negotiated Rate Service Agreement—EQT Energy LPS 4/1/2018 to be effective 4/1/2018.

Filed Date: 2/23/18.

Accession Number: 20180223-5001.

Comments Due: 5 p.m. ET 3/7/18.

Docket Numbers: RP18-460-000.

Applicants: Gulf South Pipeline Company, LP.

Description: § 4(d) Rate Filing: Filing to Incorporate Approved Changes from RP17-851-000, et al. to be effective 2/1/2018.

Filed Date: 2/23/18.

Accession Number: 20180223-5020.

Comments Due: 5 p.m. ET 3/7/18.

Docket Numbers: RP18-461-000.

Applicants: LA Storage, LLC.

Description: Compliance filing LA Storage, LLC Annual Adjustment of Fuel Retainage Percentage to be effective 3/1/2018.

Filed Date: 2/23/18.

Accession Number: 20180223-5049.

Comments Due: 5 p.m. ET 3/7/18.

Docket Numbers: RP18-462-000.

Applicants: Chief Oil & Gas LLC.

Description: Petition of Chief Oil & Gas LLC For Temporary Waiver of Capacity Release Regulations and Policies, and Request for Expedited Consideration.

Filed Date: 2/23/18.

Accession Number: 20180223-5112.

Comments Due: 5 p.m. ET 3/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2018.
Nathaniel J. Davis, Sr.,
Deputy Secretary.

[FR Doc. 2018-04305 Filed 3-1-18; 8:45 am]

BILLING CODE 6717-01-P